DEPARTMENT OF HEALTH AND HUMAN SERVICES

Administration for Children and Families

Office of Planning, Research and Evaluation; Grant to National Center for Appropriate Technology

AGENCY: Office of Planning, Research and Evaluation, ACF, DHHS.

ACTION: Award announcement.

SUMMARY: Notice is hereby given that a noncompetitive grant award is being made to National Center for Appropriate Technology to develop a series of brief, research-based papers on the impact of energy restructuring programs. As a Congressional setaside, this one-year project is being funded noncompetitively. National Center for Appropriate Technology has considerable experience in studying problems and issues relating to the provision of energy to low-income households. The cost of this one-year project is $175,000.

FOR FURTHER INFORMATION CONTACT: K.A. Jagannathan, Administration for Children and Families, Office of Planning, Research and Evaluation, 370 L'Enfant Promenade, SW, Washington, DC 20447, Phone: 202-205-4829.

Dated: June 20, 2001.
Howard Rolston,
Director, Office of Planning, Research and Evaluation.

[FR Doc. 01-16028 Filed 6-26-01; 8:45 am]

BILLING CODE 4184-01-M